DEPARTMENT OF TRANSPORTATION

Federal Aviation Administration

14 CFR Part 39

[Docket No. FAA-2020-0849; Project Identifier MCAI-2020-01036-A; Amendment 39-21374; AD 2020-26-19]

RIN 2120-AA64

Airworthiness Directives; Pilatus Aircraft Ltd. Airplanes

AGENCY: Federal Aviation Administration (FAA), DOT.

ACTION: Final rule.

SUMMARY: The FAA is adopting a new airworthiness directive (AD) for all Pilatus Aircraft Ltd. Model PC-7 airplanes. This AD results from mandatory continuing airworthiness information (MCAI) originated by an aviation authority of another country to identify and correct an unsafe condition on an aviation product. This AD requires revising the Airworthiness Limitations section (ALS) of the existing aircraft maintenance manual (AMM) to introduce new mandatory repetitive inspections for the flap pivot arm assemblies and for certain wing angle brackets, and to implement a change to the Oxygen cylinder and pressure reducer task item. The FAA is issuing this AD to address the unsafe condition on these products.

DATES: This AD is effective March 29, 2021.

The Director of the Federal Register approved the incorporation by reference of a certain publication listed in this AD as of March 29, 2021.

ADDRESSES: For service information identified in this final rule, contact Pilatus Aircraft Ltd., CH-6371, Customer Technical Support (MCC), P.O. Box 992, CH-6371, Stans, Switzerland; phone: +41 (0)41 619 67 74; fax: +41 (0)41 619 67; email: techsupport@pilatus-aircraft.com; website: https://www.pilatus-aircraft.comen/. You may view this service information at the FAA, Airworthiness Products Section, Operational Safety Branch, 901 Locust, Kansas City, Missouri 64106. For information on the availability of this material at the FAA, call (816) 329-4148. It is also available at https://www.regulations.gov by searching for and locating Docket No. FAA-2020-0849.

Examining the AD Docket

You may examine the AD docket at https://www.regulations.gov by searching for and locating Docket No. FAA-2020-0849; or in person at Docket Operations between 9 a.m. and 5 p.m., Monday through Friday, except Federal holidays. The AD docket contains this final rule, the MCAI, any comments received, and other information. The address for Docket Operations is U.S. Department of Transportation, Docket Operations, M-30, West Building Ground Floor, Room W12-140, 1200 New Jersey Avenue SE, Washington, DC 20590.

FOR FURTHER INFORMATION CONTACT: Doug Rudolph, Aerospace Engineer, FAA, General Aviation & Rotorcraft Section, International Validation Branch, 901 Locust, Room 301, Kansas City, Missouri 64106; phone: (816) 329-4059; fax: (816) 329-4090; email: doug.rudolph@faa.gov.

SUPPLEMENTARY INFORMATION:

Background

The FAA issued a notice of proposed rulemaking (NPRM) to amend 14 CFR part 39 by adding an AD that would apply to all Pilatus Aircraft Ltd. Model PC-7 airplanes. The NPRM published in the Federal Register on September 24, 2020 (85 FR 60097). The NPRM was prompted by MCAI originated by the Federal Office for Civil Aviation (FOCA), which is the aviation authority for Switzerland. FOCA has issued FOCA AD HB-2020-007, dated July 23, 2020 (referred to after this as the MCAI), to correct an unsafe condition with new mandatory instructions for continued airworthiness for all Pilatus Aircraft Ltd. Model PC-7 airplanes. The MCAI states:

The airworthiness limitations and certification maintenance instructions for Pilatus PC-7 aeroplanes, which are approved by FOCA, are currently defined and published in the Pilatus PC-7 AMM Chapter 5. These instructions have been identified as mandatory for continued airworthiness.

Failure to accomplish these instructions could result in an unsafe condition [discrepancies of life-limited and overhauled components, which could result in reduced structural integrity and system reliability of the airplane].

Previously, FOCA issued AD HB-2019-004 (later corrected) to require implementation of the maintenance tasks and airworthiness limitations as specified in Pilatus PC-7 AMM Document Number 01715, or Document Number 02416, both at issue 44, as applicable. [These tasks included the added wing angle bracket at rib 23 repetitive inspections.]

Since that AD was issued, Pilatus amended the ALS, as defined in this AD, to introduce new mandatory repetitive inspection for the flap pivot arm assemblies and a change to the Oxygen cylinder and pressure reducer task (Chapter 35—Oxygen) to remove the reference to the part numbers.

For the reason described above, this [Swiss] AD retains the requirements of FOCA AD HB-2019-004 including its correction, which is superseded, and requires accomplishment of the actions specified in the ALS.

You may examine the MCAI in the AD docket at https://www.regulations.gov by searching for and locating Docket No. FAA-2020-0849.

The NPRM proposed to require revising the ALS of the existing AMM to introduce the new mandatory repetitive inspections for the flap pivot arm assemblies and for certain wing angle brackets, and to implement a change to the Oxygen cylinder and pressure reducer task item. The FAA is issuing this AD to address the unsafe condition on these products.

Comments

The FAA received no comments on the NPRM or on the determination of the costs.

Conclusion

The FAA reviewed the relevant data and determined that air safety and the public interest require adopting this AD as proposed. Accordingly, the FAA is issuing this AD to address the unsafe condition on these products. Except for minor editorial changes, this AD is adopted as proposed in the NPRM.

Related Service Information Under 1 CFR Part 51

Pilatus Aircraft Ltd. has issued Section 05-10-10, “Lifed and Overhauled Components,” dated June 30, 2020, of Chapter 05, Time Limits/Maintenance Checks, of the Pilatus PC-7 Maintenance Manual. This document provides updated limitations, inspections, and procedures for the airworthiness limitations in chapter 5 of the existing AMM. This service information contains new mandatory repetitive inspections for the flap pivot arm assemblies and for the wing angle brackets on middle rib 23, and a change to the oxygen cylinder and pressure reducer task item to remove the reference to the part numbers.

This service information is reasonably available because the interested parties have access to it through their normal course of business or by the means identified in the ADDRESSES section.

Differences Between This AD and the MCAI

The MCAI requires incorporating all of the updated Chapter 05-00-00 for the Swiss State of Design type certificate because they deem the complete chapter 5 as the mandatory ALS of the PC-7 AMM. This AD only requires Section 05-10-10, “Lifed and Overhauled Components,” dated June 30, 2020, of Chapter 05, Time Limits/Maintenance Checks, of the Pilatus PC-7 Maintenance Manual, because it is the only mandatory section of the ALS for the U.S. type certificate.

Costs of Compliance

The FAA estimates that this AD affects 18 airplanes of U.S. registry. The FAA estimates the following costs to comply with this AD:

Estimated Costs for Required Actions
Labor cost | Parts cost | Cost per product | Cost on U.S. operators
1 work-hours × $85 per hour = $85 | $0 | $85 | $1,530

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2020-26-19 Pilatus Aircraft Ltd: Amendment 39-21374; Docket No. FAA-2020-0849; Project Identifier MCAI-2020-01036-A.

(a) Effective Date

This airworthiness directive (AD) is effective March 29, 2021.

(b) Affected ADs

None.

(c) Applicability

This AD applies to Pilatus Aircraft Ltd. Model PC-7 airplanes, all serial numbers, certificated in any category.

(d) Subject

Air Transport Association (ATA) of America Code 05, Time Limits/Maintenance Checks.

(e) Reason

This AD was prompted by the need to revise the Airworthiness Limitation section of the existing aircraft maintenance manual (AMM). The FAA is issuing this AD to revise the Airworthiness Limitations section of the existing AMM to introduce new mandatory repetitive inspections for the flap pivot arm assemblies and for the wing angle brackets on middle rib 23, and to implement a change to the Oxygen cylinder and pressure reducer task item. The unsafe condition, if not addressed, could result in reduced structural integrity and system reliability of the airplane.

(f) Compliance

Unless already done, before further flight: Incorporate the revised Airworthiness Limitation section as specified in Section 05-10-10, “Lifed and Overhauled Components,” dated June 30, 2020, of Chapter 05, Time Limits/Maintenance Checks, of the Pilatus PC-7 Maintenance Manual, into the Airworthiness Limitations section of your FAA-accepted maintenance program (maintenance manual).

(g) No Alternative Actions or Intervals

After the Airworthiness Limitations section of the existing maintenance or inspection program has been revised as required by paragraph (f) of this AD, no alternative actions (e.g., inspections) or intervals may be used unless the actions or intervals are approved as an alternative method of compliance (AMOC) in accordance with the procedures specified in paragraph (h) of this AD.

(h) Other FAA AD Provisions

AMOCs: The Manager, International Validation Branch, FAA, has the authority to approve AMOCs for this AD, if requested using the procedures found in 14 CFR 39.19. Send information to Doug Rudolph, Aerospace Engineer, FAA, General Aviation & Rotorcraft Section, International Validation Branch, 901 Locust, Room 301, Kansas City, Missouri 64106; phone: (816) 329-4059; fax: (816) 329-4090; email: doug.rudolph@faa.gov. Before using any approved AMOC on any airplane to which the AMOC applies, notify your appropriate principal inspector (PI) in the FAA Flight Standards District Office (FSDO), or lacking a PI, your local FSDO.

(i) Related Information

(1) For more information about this AD, contact Doug Rudolph, Aerospace Engineer, FAA, General Aviation & Rotorcraft Section, International Validation Branch, 901 Locust, Room 301, Kansas City, Missouri 64106; phone: (816) 329-4059; fax: (816) 329-4090; email: doug.rudolph@faa.gov.

(2) Refer to Mandatory Continuing Airworthiness Information (MCAI) Federal Office for Civil Aviation AD HB-2020-007, dated July 23, 2020, for more information. This MCAI may be found in the AD docket at https://www.regulations.gov by searching for and locating Docket No. FAA-2020-0849.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Section 05-10-10, “Lifed and Overhauled Components,” dated June 30, 2020, of Chapter 05, Time Limits/Maintenance Checks, of the Pilatus PC-7 Maintenance Manual.

(ii) [Reserved]

(3) For Pilatus Aircraft Ltd service information identified in this AD, contact Pilatus Aircraft Ltd., Customer Technical Support (MCC), P.O. Box 992, CH-6371, Stans, Switzerland; phone: +41 (0)41 619 67 74; fax: +41 (0)41 619 67 73; email: techsupport@pilatus-aircraft.com; website: https://www.pilatus-aircraft.com/en.

(4) You may view this service information at FAA, Airworthiness Products Section, Operational Safety Branch, 901 Locust, Kansas City, Missouri 64106. For information on the availability of this material at the FAA, call (816) 329-4148.

(5) You may view this service information that is incorporated by reference at the National Archives and Records Administration (NARA). For information on the availability of this material at NARA, email: fedreg.legal@nara.gov, or go to: https://www.archives.gov/federal-register/cfr/ibr-locations.html.

Issued on December 30, 2020.
Gaetano A. Sciortino,
Deputy Director for Strategic Initiatives, Compliance & Airworthiness Division, Aircraft Certification Service.

[FR Doc. 2021-01783 Filed 2-19-21; 8:45 am]

BILLING CODE 4910-13-P